DEPARTMENT OF THE INTERIOR

Bureau of Land Management

[LLCAN01000 L10200000.XZ0000 17X LXSIOVHD0000]

Northern California District Resource Advisory Council; Postponement of Meeting

AGENCY: Bureau of Land Management, Interior.

ACTION: Notice.

SUMMARY: The April 2017 Northern California District Resource Advisory Council meeting has been postponed.

DATES: The meeting was scheduled for April 26, 2017, in Redding, California, and will be rescheduled at a later date. We will publish a future notice with new meeting date and location.

FOR FURTHER INFORMATION CONTACT: BLM Northern California District Manager, Alan Bittner, (530) 224-2160; or by email at abittner@blm.gov.

SUPPLEMENTARY INFORMATION: The 15-member council advises the Secretary of the Interior, through the BLM, on a variety of planning and management issues associated with public land management on BLM-administered lands in northern California and northwest Nevada.

Additional information is available in the meeting notice published on April 18, 2017 (82 FR 18308).

Authority: 5 U.S.C. Appendix 2.

Patrick Wilkinson,
Acting Assistant Director, Communications.

[FR Doc. 2017-08665 Filed 4-26-17; 8:45 am]

BILLING CODE 4310-40-P